DEPARTMENT OF AGRICULTURE

Submission for OMB Review; Comment Request

January 9, 2020.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 13, 2020 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: 2019 Market Facilitation Program Application.

OMB Control Number: 0560-0293.

Summary of Collection: This information collection is required for the Farm Service Agency (FSA) to make Market Facilitation Program (MFP) payments to domestic crop and commodity producers. Specifically, the Commodity Credit Corporation (CCC) Charter Act (15 U.S.C. 714c) authorizes CCC to assist in the disposition of surplus commodities and to increase the domestic consumption of agricultural commodities by expanding or aiding in the expansion of domestic markets or by developing or aiding in the development of new and additional markets, marketing facilities, and uses for such commodities. The purpose of 2019 MFP is to aid producers in the disposition of surplus commodities and aid in the expansion of domestic markets or aid in the development of new and additional markets and uses for the specific crops or commodities that are negatively impacted by actions of foreign governments.

Need and Use of the Information: In order to determine whether a producer is eligible for 2019 MFP and to calculate a payment, a producer is required to submit the following forms: CCC-913, Market Facilitation Program (MFP) 2019 Application, and CCC-913 continuation form for adding more information for Part D; CCC-941, Average Adjusted Gross Income (AGI) Certification, CCC-942 Request for an Exception to Average AGI limitation, and Consent to Disclosure of Tax Information; CCC-902, Farm Operating Plan for Payment Eligibility; FSA-578, Report of Acreage; and AD-1026, Highly Erodible Land Conservation (HELC) and Wetland Conservation Certification. Most applicants will already have FSA-578, CCC-902, CCC-941, and AD-1026 on file at the time of application; however, a percentage of applicants who have not previously participated in FSA programs may need to file these forms to become eligible. The new producers will complete the forms if have not yet filed with FSA. Lack of adequate information to make the determination could result in the improper administration and appropriation of CCC funds.

Description of Respondents: Farms.

Number of Respondents: 1,445,500.

Frequency of Responses: Reporting; Other (one-time).

Total Burden Hours: 550,317.

Ruth Brown,
Departmental Information Collection Clearance Officer.

[FR Doc. 2020-00397 Filed 1-13-20; 8:45 am]

BILLING CODE 3410-05-P